DEPARTMENT OF LABOR

Employment and Training Administration

[TA-W-50,047]

Andrew Corporation Including Temporary Workers of Triangle Temporaries, Inc., Denton, TX; Amended Certification Regarding Eligibility To Apply for Worker Adjustment Assistance

In accordance with section 223 of the Trade Act of 1974 (19 U.S.C. 2273) the Department of Labor issued a Certification of Eligibility to Apply for Worker Adjustment Assistance on December 16, 2002, applicable to workers of Andrew Corporation located in Denton, Texas. The notice was published in the Federal Register on January 9, 2003 (68 FR 1202).

At the request of a petitioner, the Department reviewed the certification for workers of the subject firm. The workers produce terrestrial microwave antennas, ValuLine antennas, and earth station antennas for the telecommunications industry.

The petitioner reports that some of the workers at Andrew Corporation, prior to being employed permanently by the Andrew Corporation, were temporary workers whose wages were being paid by Triangle Temporaries, Inc. in Denton, Texas.

The intent of the Department's certification is to provide coverage to all workers of Andrew Corporation, Denton, Texas, who were adversely affected by that firm's shift in production to Mexico.

Therefore, the Department is amending the certification to include temporary workers at the subject firm whose wages were reported to Triangle Temporaries, Inc.

The amended notice applicable to TA-W-50,047 is hereby issued as follows:

All workers of Andrew Corporation, Denton, Texas, and temporary workers of Triangle Temporaries, Inc., engaged in employment related to the production of terrestrial microwave antennas, ValuLine antennas, and earth station antennas at Andrew Corporation, Denton, Texas, who became totally or partially separated from employment on or after November 4, 2001, through December 16, 2004, are eligible to apply for adjustment assistance under Section 223 of the Trade Act of 1974.

Signed at Washington, DC, this 16th day of December 2003.
Elliott S. Kushner,
Certifying Officer, Division of Trade Adjustment Assistance.

[FR Doc. 04-1000 Filed 1-15-04; 8:45 am]

BILLING CODE 4510-30-P